NUCLEAR REGULATORY COMMISSION

[NRC-2009-0226]

Office of New Reactors; Final Interim Staff Guidance on Finalizing Licensing Basis Information

AGENCY: Nuclear Regulatory Commission (NRC).

ACTION: Notice of availability.

SUMMARY: The NRC is issuing its Final Interim Staff Guidance (ISG) DC/COL-ISG-011 (Agencywide Documents Access and Management System (ADAMS) Accession No. ML092890623). This ISG is to clarify the NRC staff position on finalizing licensing basis information at a point during the licensing review, a so-called freeze point, and the control of licensing basis information during and following the initial review of applications for design certifications (DCs) or combined licenses (COLs). The NRC staff issues COL/DC-ISGs to facilitate timely implementation of current staff guidance and to facilitate activities associated with review of applications for DCs and COLs by the Office of New Reactors (NRO). The NRC staff intends to incorporate the final approved DC/COL-ISG-011 into the next revision of Regulatory Guide 1.206, “Combined License Applications for Nuclear Power Plants.”

Disposition: On May 28, 2009, the NRC staff issued the proposed ISG on “Finalizing Licensing Basis Information,” ADAMS Accession No. ML090550772. There were no comments received on the proposed ISG. Therefore, the guidance is issued as final without any changes to the proposed notification as above.

ADDRESSES: The NRC maintains ADAMS which provides text and image files of NRC's public documents. These documents may be accessed through the NRC's Public Electronic Reading Room on the Internet at http://www.nrc.gov/reading-rm/adams.html. Persons who do not have access to ADAMS, or who encounter problems in accessing the documents located in ADAMS, should contact the NRC Public Document reference staff at 1-800-397-4209, 301-415-4737, or by e-mail at pdr.resource@nrc.gov.

FOR FURTHER INFORMATION CONTACT: Mr. William D. Reckley, Chief, Advanced Reactors Branch 1, Advanced Reactor Program, Office of the New Reactors, U.S. Nuclear Regulatory Commission, Washington, DC 20555-0001; telephone at 301-415-7490 or e-mail at william.reckley@nrc.gov.

SUPPLEMENTARY INFORMATION: The agency posts its issued staff guidance in the agency external Web page (http://www.nrc.gov/reading-rm/doc-collections/isg/).

Dated at Rockville, Maryland, this 2nd day of November 2009.
For the Nuclear Regulatory Commission.
William F. Burton,
Branch Chief, Rulemaking and Guidance Development Branch, Division of New Reactor Licensing, Office of New Reactors.

[FR Doc. E9-26909 Filed 11-6-09; 8:45 am]

BILLING CODE 7590-01-P